DEPARTMENT OF HEALTH AND HUMAN SERVICES

National Institutes of Health

National Cancer Institute; Amended Notice of Meeting

Notice is hereby given of a change in the meeting of the National Cancer Institute Special Emphasis Panel, July 30, 2015, 11 a.m. to July 31, 2015, 6 p.m., National Cancer Institute Shady Grove, 9609 Medical Center Drive, 2W032/034, Rockville, MD 20850 which was published in the Federal Register on June 9, 2015, 80 FR 32577.

The meeting notice is amended to change the end date from July 31, 2015 to July 30, 2015, this meeting conclude in one day. The meeting is closed to the public.

Dated: August 10, 2015.
Melanie J. Gray,
Program Analyst, Office of Federal Advisory Committee Policy.

[FR Doc. 2015-19943 Filed 8-12-15; 8:45 am]

BILLING CODE 4140-01-P